DEPARTMENT OF AGRICULTURE

Grain Inspection, Packers and Stockyards Administration (GIPSA)

Amendment to the Designation of Lincoln Grain Inspection Service, Inc.

AGENCY: Grain Inspection, Packers and Stockyards Administration, USDA.

ACTION: Notice.

SUMMARY: Lincoln Grain Inspection Service, Inc.'s (Lincoln) geographical territory is amended to exclude the area previously designated to Lincoln within New Mexico and Texas. Lincoln advised GIPSA that they will cease providing official services in New Mexico and Texas on October 31, 2016. Accordingly, GIPSA is announcing that the portion of Lincoln's designation within New Mexico and Texas will be canceled effective October 31, 2016. The designation of Lincoln is from April 1, 2015, to March 31, 2018, but from October 31, 2016, through March 31, 2018 it will apply only to the geographic area listed below due to the voluntary cancellation. For official services in the New Mexico and Texas areas after October 31, 2016, contact Ron Metz, Field Office Manager, Domestic Inspection Operations Office, at telephone number 816-659-8400.

DATES: Effective October 31, 2016

FOR FURTHER INFORMATION CONTACT: Sharon Lathrop, 816-891-0415 or FGIS.QACD@usda.gov

SUPPLEMENTARY INFORMATION: The United States Grain Standards Act (USGSA) authorizes the Secretary to designate a qualified applicant to provide official services in a specified area after determining that the applicant is better able than any other applicant to provide such official services 7 U.S.C. 79(f). Under 7 U.S.C. 79(g), designations of official agencies are effective for no longer than five years, unless terminated by the Secretary, and may be renewed according to the criteria and procedures prescribed in 7 U.S.C. 79(f).

Lincoln Designation

Pursuant to 7 U.S.C. 79(f)(2), the following geographic area, in the States of Iowa and Nebraska, is assigned to this official agency.

In Iowa and Nebraska

Bounded on the North (in Nebraska) by the northern York, Seward, and Lancaster County lines; the northern Cass County line east to the Missouri River; the Missouri River south to U.S. Route 34. U.S. Route 34 east to Interstate 29; Bounded on the East by Interstate 29 south to the Fremont County line; the northern Fremont and Page County lines; the eastern Page County line south to the Iowa-Missouri State line; the Iowa Missouri State line west to the Missouri River; the Missouri River south-southeast to the Nebraska Kansas State line; Bounded on the South by the Nebraska-Kansas State line west to County Road 1 mile west of U.S. Route 81; Bounded on the West by County Road 1 mile west of U.S. Route 81 north to State Highway 8; State Highway 8 east to U.S. Route 81; U.S. Route 81 north to the Thayer County line; the northern Thayer County line east; the western Saline County line; the southern and western York County lines.

The following grain elevators are not part of this geographic area assignment and are assigned to: Omaha Grain Inspection Service, Inc.: Goode Seed & Grain, McPaul, Fremont County, Iowa; and Haveman Grain, Murray, Cass County, Nebraska.

Authority: 7 U.S.C. 71-87k.

Susan B. Keith,
Acting Administrator, Grain Inspection, Packers and Stockyards Administration.

[FR Doc. 2016-25610 Filed 10-21-16; 8:45 am]

BILLING CODE 3410-KD-P